SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: September 1-30, 2018.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and 806.22 (f) for the time period specified above:

Approvals by Rule Issued Under 18 CFR 806.22(f)

1. Repsol Oil & Gas USA, LLC, Pad ID: MURPHY (07 075) D, ABR-201309002.R1; Apolacon Township, Susquehanna County, Pa.; Consumptive Use of Up to 6.0000 mgd; Approval Date: September 10, 2018.

2. Repsol Oil & Gas USA, LLC, Pad ID: BUTLER (07 086) J, ABR-201309003.R1; Apolacon Township, Susquehanna County, Pa.; Consumptive Use of Up to 6.0000 mgd; Approval Date: September 10, 2018.

3. Repsol Oil & Gas USA, LLC, Pad ID: OLYMPIC LAKE ESTATES (07 083), ABR-201309005.R1; Apolacon Township, Susquehanna County, Pa.; Consumptive Use of Up to 6.0000 mgd; Approval Date: September 10, 2018.

4. SWN Production Company, LLC, Pad ID: Salt Lick Hunting Club-Range-Pad59, ABR-201310002.R1; New Milford Township, Susquehanna County, Pa.; Consumptive Use of Up to 4.9990 mgd; Approval Date: September 10, 2018.

5. SWEPI LP, Pad ID: Bradford 481, ABR-201309008.R1; Sullivan Township, Tioga County, Pa.; Consumptive Use of Up to 4.0000 mgd; Approval Date: September 21, 2018.

6. Cabot Oil & Gas Corporation, Pad ID: StoddardT P1, ABR-201309012.R1; Lenox Township, Susquehanna County, Pa.; Consumptive Use of Up to 5.0000 mgd; Approval Date: September 24, 2018.

Authority: Pub. L. 91-575, 84 Stat. 1509 et seq., 18 CFR parts 806, 807, and 808.

Dated: October 15, 2018.
Stephanie L. Richardson,
Secretary to the Commission.

[FR Doc. 2018-22765 Filed 10-18-18; 8:45 am]

BILLING CODE 7040-01-P